DEPARTMENT OF HOUSING AND URBAN DEVELOPMENT

[Docket No. FR-4736-N-09]

Announcement of OMB Approval Number for Application for Designation of State or Locally Developed Public Housing as “Covered Units” Eligible for Inclusion in the Federal Public Housing Program

AGENCY: Office of the Assistant Secretary for Public and Indian Housing, HUD.

ACTION: Announcement of OMB approval number.

SUMMARY: The purpose of this notice is to announce the OMB approval number for applications for the designation of State or Locally Developed Housing as “Covered Units” eligible for inclusion in the Federal Public Housing Program. In response to recent court decisions issued by the U.S. District Court for the Southern District of New York and U.S. Court of Appeals for the Second Circuit directing HUD to implement the federalization mandate of section 519, HUD will notify all eligible Public Housing Agencies (PHAs) in the state of New York that they may request the Department federalize their State and locally developed public housing units. Eligible PHAs will submit to HUD information for those units to be included under the Federal public housing program.

FOR FURTHER INFORMATION CONTACT: Sherry Fobear-McCown, Department of Housing and Urban Development, 451 7th Street, SW., Washington, DC 20410, telephone (202) 708-0614, extension 7651. This is not a toll-free number. For hearing- and speech-impaired persons, this telephone number may be accessed via TTY (text telephone) by calling the Federal Information Relay Service at 1-800-877-8339 (toll-free).

SUPPLEMENTARY INFORMATION: In accordance with the Paperwork Reduction Act of 1995 (44 U.S.C. Chapter 235, as amended), this notice advises that OMB has responded to the Department's request for approval of the information collection for application for designation of State or locally developed public housing as “Covered Units” eligible for inclusion in the Federal Public Housing Program. The OMB approval number for this information collection is 2577-0239 which expires 10/30/2002.

An agency may not conduct or sponsor, and a person is not required to respond to, a collection of information, unless it displays a currently valid OMB control number.

Dated: August 9, 2002.
Michael Liu,
Assistant Secretary for Public and Indian Housing.

[FR Doc. 02-20797 Filed 8-15-02; 8:45 am]

BILLING CODE 4210-33-M